DEPARTMENT OF ENERGY

Federal Energy Regulatory Commission

[Docket No. RP05-422-000]

El Paso Natural Gas Company; Technical Conference Agenda

September 9, 2005.

On July 29, 2005, the Commission issued an order in this proceeding ¹ that directed Staff to convene a technical conference to discuss issues raised by El Paso's tariff filing. On August 11, 2005, a notice was issued scheduling the technical conference for Tuesday, September 20, 2005 and continuing through Wednesday, September 21, 2005. The August 11, 2005 notice stated that an agenda for the conference would be issued in a subsequent notice. The agenda attached to this notice lists the issues for discussion in the order in which they will be addressed at the two-day technical conference. The conference on Tuesday, September 20, 2005 will start at 10 a.m. (EST) and end by 5 p.m. and continue on Wednesday, September 21, 2005 at 9 a.m.

¹ 112 FERC ¶ 61,150 (2005).

Magalie R. Salas,
Secretary.

[FR Doc. E5-5060 Filed 9-15-05; 8:45 am]

BILLING CODE 6717-01-P